DEPARTMENT OF HOMELAND SECURITY

Federal Emergency Management Agency

Use of Digital Flood Data

AGENCY: Federal Emergency Management Agency, DHS.

ACTION: Notice of availability.

SUMMARY: Section 107 of the Bunning-Bereuter-Blumenauer Flood Insurance Reform Act of 2004 requires that geospatial digital flood hazard data distributed by the Federal Emergency Management Agency (FEMA), or its designee, or the printed products derived from that data, be interchangeable and legally equivalent for the determination of the location of 1-in-100-year and 1-in-500-year floodplains, provided that all other geospatial data shown on the printed product meets or exceeds any accuracy standard promulgated by FEMA. This is required for the purposes of flood insurance and floodplain management activities conducted pursuant to the National Flood Insurance Program under the National Flood Insurance Act of 1968. The FEMA Mitigation Directorate has developed a policy to implement this requirement. The policy states: To which FEMA products it applies; that “printed products” refers to both printed paper products produced by FEMA and by others; and that the horizontal location of the special flood hazard area on new products is defined by geographic coordinates.

DATES: This notice is effective as of November 29, 2007.

ADDRESSES: The policy is available online at http://www.fema.gov/library/viewRecord.do?id=3235. You may also view a hard copy of the policy at the Office of Chief Counsel, Federal Emergency Management Agency, Room 835, 500 C Street, SW., Washington, DC 20472.

FOR FURTHER INFORMATION CONTACT: Paul Rooney, Data and Dissemination Branch, Mitigation Directorate, Federal Emergency Management Agency, 500 C Street, SW., Washington, DC 20472, e-mail: paul.rooney@dhs.gov.

SUPPLEMENTARY INFORMATION: The Federal Emergency Management Agency (FEMA) publishes new Flood Insurance Rate Maps (FIRMs) in the form of paper maps, digital map images (the full-size FIRM Scans and letter-size FIRMettes) and digital geospatial flood hazard data (the Digital Flood Insurance Rate Map (DFIRM) Database product). The previously published maps are available only as paper maps or FIRM Scans/FIRMettes.

As required by 42 U.S.C. 4101 note, FIRM Scans/FIRMettes, published paper FIRMs, DFIRM Database products and printed versions produced from the official digital products are all equivalent to each other and represent official FEMA designations of the areas of special flood hazard, base flood elevations, insurance risk zones and other regulatory information, provided that all other geospatial data shown on the printed product meets or exceeds any accuracy standard promulgated by FEMA.

Beginning in 2001, most new FIRMs began showing a coordinate grid on the printed effective FIRM and are available as a DFIRM Database product. When a coordinate grid is shown on the printed FIRM or when the DFIRM Database version is available, the horizontal location of the flood hazard information is defined with respect to the primary coordinate system shown on the printed FIRM or stored in the DFIRM Database product. The horizontal location of the flood hazard information is not defined by its relationship to the base map features such as streets. If there are conflicting interpretations of the precise horizontal location of the areas of special flood hazard, the conflict shall be resolved using the grid coordinates shown on the printed FIRM or stored in the DFIRM Database product rather than the base map features.

Base map is defined as the set of physical and cultural features shown on a flood map to provide a geographic and visual context to the flood hazard information. Features depicted by the base map include roads, railroads, buildings, lakes, streams, shorelines, jurisdiction boundaries, public land survey system information, land parcel, and orthoimagery.

The policy is available online located at http://www.fema.gov/library/viewRecord.do?id=3235. You may also view a hard copy of the policy at the Office of Chief Counsel, Federal Emergency Management Agency, Room 835, 500 C Street, SW., Washington, DC 20472.

Authority: 42 U.S.C. 4101 note.

Dated: May 7, 2008.
David I. Maurstad,
Federal Insurance Administrator of the National Flood Insurance Program, Federal Emergency Management Agency, Department of Homeland Security.

[FR Doc. E8-10932 Filed 5-15-08; 8:45 am]

BILLING CODE 9110-12-P